DEPARTMENT OF THE INTERIOR

Bureau of Land Management

[LLORS00300;L63100000.EU0000.14XL;HAG-14-0142]

Notice of Realty Action: Modified Competitive Sale of Public Lands in Polk County, Oregon (OR 68032)

AGENCY: Bureau of Land Management, Interior.

ACTION: Notice of Realty Action.

SUMMARY: The Bureau of Land Management (BLM) proposes to offer eight tracts of public land totaling 77.35 acres through modified competitive sale procedures to assure equitable distribution among purchasers of land and to recognize equitable considerations. The eight tracts of lands will be sold to the adjacent landowners for the appraised fair market and timber value of each parcel. The BLM is proposing to use the modified competitive sale procedures consistent with the requirements of Sections 203 and 209 of the Federal Land Policy and Management Act of 1976 (FLPMA), as amended, and the applicable regulations.

DATES: Submit comments on or before November 24, 2014. The lands will be offered for sale at public auction beginning at 10:00 a.m. on December 8, 2014, at the address in the ADDRESSES section. Sealed bids must be received by the BLM's Salem District Office prior to 10:00 a.m. on December 8, 2014. Sealed bids will be opened and a high bidder will be declared at the sale.

ADDRESSES: Mail and submit written comments and sealed-bids to BLM, Marys Peak Field Manager, Richard Hatfield, Salem District Office, 1717 Fabry Road SE., Salem, OR 97306.

FOR FURTHER INFORMATION CONTACT: Phyllis E. Gregory, Realty Specialist, at the address above, or by telephone at 503-375-5623. Persons who use a Telecommunications Device for the Deaf (TDD) may call the Federal Information Relay Service (FIRS) at 1-800-877-8339 to contact the above listed individual during normal business hours. The FIRS is available 24 hours a day, 7 days a week, to leave a message or question with the above listed individual. You will receive a reply during normal business hours.

SUPPLEMENTARY INFORMATION: The following described public lands in Polk County, Oregon, have been examined and found suitable for sale under Sections 203 and 209 of FLPMA. The tracts of public land for the proposed sale are identified as follows:

Willamette Meridian, Oregon

T. 6 S., R. 7 W.,

Sec. 31, Tract 61;

T. 7 S., R. 7 W.,

Sec. 6, Tract 38.

The area described contains 40.21 acres. These two tracts of public land will be sold as one unit. The appraised fair market value of the land is $56,294, and the timber value is $66,591 totaling $122,885.00.

T. 6 S., R. 7 W.,

Sec. 33, Tract 63.

The area described contains 16.24 acres. The appraised fair market value of the land is $22,736 and the timber value is $18,130 totaling $40,866.00.

T. 6 S., R. 7 W.,

Sec. 33, Tract 64.

The area described contains 10.44 acres. The appraised fair market value of the land is 14,616 and the timber value is $5,654 totaling $20,270.00.

T. 6 S., R. 7 W.,

Sec. 28, Tract 65.

The area described contains 5.60 acres. The appraised fair market value of the land is $7,840 and the timber value is $5,654 totaling $13,494.00.

T. 6 S., R. 7 W.,

Sec. 21, Tract 66.

The area described contains 2.38 acres. The appraised fair market value of the land is $3,332 and the timber value is $2,087 totaling $5,419.00.

T. 6 S., R. 7 W.,

Sec. 21, Tract 67.

The area described contains 1.19 acres. The appraised fair market value of the land is $1,666 and the timber value is $14,784 totaling $16,450.00.

T. 6 S., R. 7 W.,

Sec. 16, Tract 68.

The area described contains 1.29 acres. The appraised fair market value of the land is $1,806 and the timber value is $810 totaling $2,616.00.

The overall property value of the land and the timber is $222,000.

These tracts of public lands meet the disposal criteria consistent with Section 203 of FLPMA and are in conformance with the BLM, Salem District Office, Resource Management Plan and Record of Decision approved May 1995.

These tracts of public lands were created by a survey error made in the mid-1800s, which mislaid the southeastern corner of the Confederated Tribes of the Grand Ronde Reservation inside the original and correct corner. The Grand Ronde Reservation Act of April 28, 1904 was passed to sell the unalloted lands within the Tribe's Reservation. These unalloted lands were sold along the incorrect boundary, leaving a small strip of land running west and north from the incorrect corner that was not purchased and eventually came under the BLM's administration. In the 1990s, this error was discovered and the lands were re-surveyed. This strip became known as the “Thompson Strip”. Because of the survey error, several private companies innocently believed they were the owners of record. This resulted in the unauthorized cutting and removal of forest products from these tracts of public lands. These public lands are difficult to access, manage, and are surrounded by private lands.

The proposed tracts of land will be offered for sale at public auction using modified competitive bidding procedures authorized under 43 CFR 2711.3-2. Public lands offered for sale utilizing modified competitive sale bidding procedures when the authorized officer determines it is necessary in order to assure equitable distribution of land among purchasers. Bidding for these tracts will be restricted to the following adjacent landowners: Nestucca Forests, LLC; Hampton Resources, Inc.; and Little John Resources, LLC.

The lands will be offered for sale at public auction beginning at 10:00 a.m. on December 8, 2014, at the address in the ADDRESSES section. Sale will be by sealed bid only. All sealed bids must be received by the BLM's Salem District Office prior to 10:00 a.m. on December 8, 2014. Bid envelopes must be marked on the lower left front corner, “Sale OR 68032”. Bids for individual tracts must be for not less than the appraised fair market and timber value specified in this notice. Sealed bids must include an amount not less than 10 percent of the total amount bid and shall be by certified check, postal money order, bank draft, or cashier's check made payable to the “Department of the Interior-Bureau of Land Management.” The BLM will not accept personal or company checks.

Under modified competitive sale procedures, the sealed bids will be opened and a high bidder will be declared at the sale. Notification by mail will be provided to the high bidder and the other designated bidders. In the case of a tie of bids submitted by interested designated bidders, the tied interested designated bidders will be given an opportunity to submit a written agreement as to the division of land, or an additional sealed bid, meeting the above-stated requirements, within 30 days of written notification of eligibility. The successful bidder will be given 180 days from the date of the sale to submit the remainder of the full purchase price.

If any of the subject tracts are not sold on December 8, 2014, the tract will be re-offered on a continuing basis in accordance with the competitive sale procedures described in 43 CFR 2711.3-1. Sealed bids prepared and submitted in the manner described above will be accepted from any qualified bidder. Bids will be opened at 10:00 a.m., on the 7th day of each month thereafter, for 60 days, until a high bidder is declared.

Federal law requires that public land may be sold only to either (1) citizens of the United States, 18 years of age or over; (2) corporations subject to the laws of any State or of the United States; (3) a State, State instrumentality or political subdivision authorized to hold property; (4) an entity legally capable of conveying and holding lands or interests therein under the laws of the State within which the lands to be conveyed are located. Certifications and evidence to this effect will be required of the purchaser prior to issuance of a patent.

The following rights, reservations, and conditions will be included in the patent conveying the land:

1. A right-of-way is reserved for ditches and canals constructed by authority of the United States under the Act of August 30, 1890 (26 Stat. 291; 43 U.S.C. 945).

2. The tracts are subject to all valid existing rights and reservations of record.

3. An appropriate indemnification clause protecting the United States from claims arising out of the lessees/patentee's use, occupancy, or occupations on the leased/patented lands.

Pursuant to the requirements established by Section 120(h) of the Comprehensive Environmental Response, Compensation and Liability Act, 42 U.S.C. 9620 (h) (CERCLA), as amended, notice is hereby given that the lands have been examined and no evidence was found to indicate that any hazardous substances have been stored for 1 year or more, nor had any hazardous substances been disposed of or released on the subject property.

No representation, warranty, or covenant of any kind, express or implied, is given or made by the United States as to access to or from any parcel of land, the title, whether or to what extent the land may be developed, its physical condition, present or potential uses, or any other circumstance or condition.

All persons, other than the successful bidders, claiming to own unauthorized improvements on the land are allowed 60 days from the date of sale to remove the improvements.

A successful bid for each tract will constitute an application for conveyance of the mineral estate in accordance with Section 209 of the FLPMA (43 U.S.C. 1719). Those mineral interests will be conveyed simultaneously with the sale of the land, and have been determined by BLM to have no known mineral value. At the closing, the purchaser will pay to the BLM a non-refundable fee of $50.00 in accordance with 43 CFR 2720.1-2(c).

On October 8, 2014, the above-described lands will be segregated from appropriation under the public land laws, including the mining laws, except from the sale provisions of FLPMA. Until completion of the sale, the BLM is no longer accepting land use applications affecting the identified public lands, except applications for the amendment of previously filed right-of-way applications or existing authorizations to increase the term of the grants in accordance with 43 CFR 2807.15 and 2886.15. The segregative effect will terminate upon issuance of a patent, publication in the Federal Register of a termination of the segregation, or October 8, 2016, unless extended by the BLM State Director in accordance with 43 CFR 2711.1-2(d) prior to the termination date.

Public Comments: On or before November 24, 2014, any person may submit written comments regarding the proposed sale to the address in the ADDRESSES section above. Comments received in electronic form such as email or facsimile will not be considered. Before including your address, phone number, email address, or other personal identifying information, you should be aware that your entire comment, including any personal identifying information may be made publicly available at any time. While you can ask us in your comment to withhold your personal identifying information from public review, we cannot guarantee that we will be able to do so.

Detailed information about this modified competitive land sale, including the appraisal, the Environmental Assessment, and the Decision, is available at the Salem District Office during business hours.

Any comments regarding the proposed sale will be reviewed by the BLM Oregon State Director or other authorized official of the Department of the Interior, who may sustain, vacate, or modify this realty action in whole or in part.

In the absence of timely filed objections, this realty action will become the final determination of the Department of the Interior.

Authority: 43 U.S.C. 1713 and 1719; 43 CFR 2711.1-2(c).

Richard Hatfield,
Marys Peak Resource Area Field Manager.

[FR Doc. 2014-24066 Filed 10-7-14; 8:45 am]

BILLING CODE 4310-33-P